NUCLEAR REGULATORY COMMISSION

Solicitation of Comments on Draft NRC Inspection Manual Chapter 2600; Fuel Cycle Facility Operational Safety and Safeguards Inspection Program

AGENCY: Nuclear Regulatory Commission (NRC).

ACTION: Notice of opportunity for comment.

SUMMARY: The Division of Fuel Cycle Safety and Safeguards of the NRC has issued a draft revision to Inspection Manual Chapter (MC) 2600, “Fuel Cycle Facility Operational Safety and Safeguards Inspection Program” for stakeholder review and comment.

The purpose of the revision is to provide updated program administrative guidance for the staff, incorporate current practices and activities into the oversight program while deleting closed or out-of-date procedures, and increase emphases on risk-significant, performance-based inspection activities.

The availability of this document is the latest step in an NRC effort to improve effectiveness of the fuel cycle oversight program and facilitate open communications with stakeholders.

Opportunity to Comment: To provide NRC with stakeholder views on the proposed changes to the oversight program used to evaluate the safety and safeguards performance of NRC fuel cycle licensees.

DATES: Submit written comments by September 18, 2002. Comments received after this date will be considered if it is practical to do so, but the Commission is able to ensure consideration only for comments received on or before this date.

ADDRESSES: In accordance with 10 CFR 2.790 of NRC's “Rules of Practice,” a copy of this draft MC 2600 is available electronically (accession number ML022200374) for public inspection in the NRC's Agency-Wide Document Access and Management System (ADAMS). ADAMS is accessible from the NRC Web site at http://www.nrc.gov/reading-rm/adams.html. A free single copy of the draft revision to MC 2600 may be obtained by writing to the Inspection Section, Special Projects and Inspection Branch (MS T8H9) Division of Fuel Cycle Safety and Safeguards, Office of Nuclear Material Safety and Safeguards, U.S. Nuclear Regulatory Commission, 11545 Rockville Pike, Rockville, Maryland 20852. Comments on this document should be sent to the Chief, Rules Review and Directives Branch, ADM, U.S. NRC, Washington, DC 20555, or may be hand delivered to 11545 Rockville Pike, Rockville, Maryland 20852, between 7:45 a.m.-4:15 p.m. on Federal work days. Comments should be legible and reproducible, and include the name, affiliation (if any) and address of the submitter. All comments received by the Commission will be made available for public inspection at the Commission's public document room (PDR). Draft NRC IMC 2600 is available for inspection and copying for a fee at the NRC PDR, room 1 F21 at 11555 Rockville Pike, Rockville, Maryland 20852.

FOR FURTHER INFORMATION CONTACT: William M. Troskoski, Inspection Section, Special Projects and Inspection Branch (MS T8H9) Division of Fuel Cycle Safety and Safeguards, (301) 415-8076 or by electronic mail, WMT@NRC.gov.

Dated at Rockville, Maryland, this 12th day of August 2002.
For the Nuclear Regulatory Commission.
Eric J. Leeds,
Deputy Director, Division of Fuel Cycle Safety and Safeguards, Office of Nuclear Material Safety and Safeguards.

[FR Doc. 02-20973 Filed 8-16-02; 8:45 am]

BILLING CODE 7590-01-P